DEPARTMENT OF THE INTERIOR

National Park Service

Notice of Inventory Completion: Natural History Museum of Los Angeles County Foundation, Los Angeles, CA

AGENCY: National Park Service, Interior.

ACTION: Notice.

Notice is here given in accordance with the Native American Graves Protection and Repatriation Act (NAGPRA), 25 U.S.C. 3003, of the completion of an inventory of human remains in the possession of Natural History Museum of Los Angeles County Foundation, Los Angeles, CA. The human remains were removed from Kern and Kings Counties, CA, and an unknown location probably in the interior of California.

This notice is published as part of the National Park Service's administrative responsibilities under NAGPRA, 25 U.S.C. 3003 (d)(3). The determinations in this notice are the sole responsibility of the museum, institution, or Federal agency that has control of the Native American human remains. The National Park Service is not responsible for the determinations in this notice.

An assessment of the human remains was made by the Natural History Museum of Los Angeles County Foundation professional staff in consultation with representatives of the Santa Rosa Indian Community of the Santa Rosa Rancheria, California (also known as the Tachi Yokut Tribe).

In or before 1918, human remains representing a minimum of one individual were removed from Kern County, CA. The human remains were brought to the museum by a private collector and accessioned on August 11, 1918 (Accession number A.847.18-1). No known individual was identified. No associated funerary objects are present.

The accession records indicate the human remains were excavated from a location “45 miles N.W. of Bakersfield and 12 miles S.E. of Lost Hill.” Based on museum records, the human remains are Native American. There is no further documentation on the original context of the human remains.

In or before 1951, human remains representing a minimum of three individuals were removed from Kings County, CA, by an unknown person. The human remains were brought to the museum by a private collector and accessioned into the Department of Mammalogy in September, 1951. In 1993, the human remains were transferred to the Department of Anthropology (Accession numbers LACM 51136, LACM.51137, and LACM 51139). No known individuals were identified. No associated funerary objects are present.

The accession records indicate two individuals were recovered from a location in Kings County “7 miles south of Lemore.” The other individual was recovered “5 miles south of Lemore.” Based on museum records, the human remains are Native American. There is no further documentation on the original context of the human remains.

In or before 1956, human remains representing a minimum of one individual were removed from an unknown locality from probably the interior of California. The human remains were brought to the Natural History Museum of Los Angeles County Foundation by a private collector and accessioned on September 18, 1956 (Accession number A.6988.56-24). No known individual was identified. No associated funerary objects are present.

The collector designated the human remains as that of a “Yokuk Indian.” The accession records do not indicate a specific locality nor is there further documentation on the original context of the human remains. Based on collector information and museum records, the museum has determined that the human remains are reasonably believed to be Yokut.

The five individuals described above had previously been determined to be culturally unidentifiable. However, during consultation, tribal representatives of the Santa Rosa Indian Community of the Santa Rosa Rancheria, California established that the Yokut had territories in portions of central California, including Kern and Kings Counties. The Yokut are divided into Northern, Southern, and Foothill Yokut. Descendants of the Yokut are members of the Picayune Rancheria of Chuckchansi Indians of California; Santa Rosa Indian Community of the Santa Rosa Rancheria, California; Table Mountain Rancheria of California; and Tule River Indian Tribe of the Tule River Reservation, California.

Officials of the Natural History Museum of Los Angeles County Foundation have determined that, pursuant to 25 U.S.C. 3001 (9-10), the human remains described above represent the physical remains of five individuals of Native American ancestry. Officials of the Natural History Museum of Los Angeles County Foundation also have determined that, pursuant to 25 U.S.C. 3001 (2), there is a relationship of shared group identity that can be reasonably traced between the Native American human remains and the Picayune Rancheria of Chuckchansi Indians of California; Santa Rosa Indian Community of the Santa Rosa Rancheria, California; Table Mountain Rancheria of California; and Tule River Indian Tribe of the Tule River Reservation, California.

Representatives of any other Indian tribe that believes itself to be culturally affiliated with the human remains should contact Dr. Margaret Ann Hardin, Natural History Museum of Los Angeles County Foundation, 900 Exposition Blvd., Los Angeles, CA 90007, telephone (213) 763-3382, before March 26, 2008. Repatriation of the human remains to the Santa Rosa Indian Community of the Santa Rosa Rancheria, California may proceed after that date if no additional claimants come forward.

The Natural History Museum of Los Angeles County Foundation is responsible for notifying the Picayune Rancheria of Chuckchansi Indians of California; Santa Rosa Indian Community of the Santa Rosa Rancheria, California; Table Mountain Rancheria of California; and Tule River Indian Tribe of the Tule River Reservation, California that this notice has been published.

Dated: December 21, 2007
Sherry Hutt,
Manager, National NAGPRA Program.

[FR Doc. E8-3450 Filed 2-22-08; 8:45 am]

BILLING CODE 4312-50-S